DEPARTMENT OF HEALTH AND HUMAN SERVICES

Administration for Children and Families

Office of Refugee Resettlement; Grant Notice

AGENCY: Office of Refugee Resettlement, Administration for Children and Families, DHHS.

ACTION: Notice to supplement funding to the 2008 Voluntary Agency Matching Grant Program.

CFDA#: 93.567.

Legislative Authority: Section 412(c)(1)(A) of the Immigration and Nationality Act (8 U.S.C. 1522(c)(1)(A); Section 7(a) and (b) of the Refugee Assistance Extension Act of 1986 (P.L. 99-605) (8 U.S.C. 1522 note)

Amount of Award: $2.17 million supplemental to 2008 awards of $60 million federal funds plus $30 million in cash and in-kind “match”.

Project Period: February 15, 2008 to January 31, 2010.

SUMMARY: Notice is hereby given that the Office of Resettlement, Division of Community Resettlement, will award supplemental funds without competition to nine agencies: Church World Service, Ethiopian Community Development Council, Episcopal Migration Ministries, Hebrew Immigrant Aid Society, International Rescue Committee, Lutheran Immigration and Refugee Services, the United States Committee for Refugees and Immigrants, the United States Conference of Catholic Bishops, and World Relief Corporation. The cost for these supplemental awards is $2.17 million.

The Voluntary Agency Matching Grant program was created by Congress in 1979. Matching Grant services enable the Voluntary Agencies' resettlement agencies to work with recently arrived refugees and other eligible clients. The goal of the program is to assist refugees become economically self-sufficient without accessing public assistance within 120-180 days. Last year, 81% of clients entering the program were economically self-sufficient within 180 days.

Since the Presidential Determination was signed in October 2007, the ceiling for refugees was raised from 70,000 to 80,000 to accommodate 10,000 additional Iraqi refugees. In addition, legislation passed in December 2007 and January 2008 created a new class of individuals eligible for the refugee services. Thousands of Afghani and Iraqi interpreters who served the U.S. military have been provided “Special Immigrant Visas” (SIV) and are now eligible for six or eight months of refugee services. The Matching Grant program is often the program of choice for these special populations as it is geared for readily employable cases and for SIV cases, conforms to the legislative time limits.

FOR FURTHER INFORMATION CONTACT: Ronald A. Munia, Director, Division of Community Resettlement, Office of Refugee Resettlement, 370 L'Enfant Promenade, SW., Washington, DC 20047. E-mail: rmunia@acf.hhs.gov and phone: 202-401-4559.

Dated: May 13, 2008.
David H. Siegel,
Director, Office of Refugee Resettlement.

[FR Doc. E8-11440 Filed 5-21-08; 8:45 am]

BILLING CODE 4184-01-P